DEPARTMENT OF LABOR

Employment and Training Administration

[TA-W-42,119]

J-Star AG Division, JSI Industries, Inc., Fort Atkinson, WI; Notice of Termination of Investigation

Pursuant to section 221 of the Trade Act of 1974, an investigation was initiated on September 16, 2002, in response to a petition filed on behalf of workers at J-Star AG Division, JSI Industries, Inc, Fort Atkinson, Wisconsin.

The petitioners have requested that the petition be withdrawn. Consequently further investigation in this case would serve no purpose, and the investigation has been terminated.

Signed in Washington, DC, this 12th day of November, 2002.
Linda G. Poole,
Certifying Officer, Division of Trade Adjustment Assistance.

[FR Doc. 02-29637 Filed 11-20-02; 8:45 am]

BILLING CODE 4510-30-P